DEPARTMENT OF HOMELAND SECURITY

Federal Emergency Management Agency

[Docket No. FEMA-2015-0001; Internal Agency Docket No. FEMA-B-1415]

Proposed Flood Hazard Determinations

AGENCY: Federal Emergency Management Agency; DHS.

ACTION: Notice; correction.

SUMMARY: On July 9, 2014, FEMA published in the Federal Register a proposed flood hazard determination notice that contained an erroneous table. This notice provides corrections to that table, to be used in lieu of the information published at 79 FR 38934. The table provided here represents the proposed flood hazard determinations and communities affected for Rockingham County, New Hampshire (All Jurisdictions).

DATES: Comments are to be submitted on or before May 11, 2015.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at www.msc.fema.gov for comparison.

You may submit comments, identified by Docket No. FEMA-B-1415, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov; or visit the FEMA Map Information eXchange (FMIX) online at www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 79 FR 38934 in the July 9, 2014, issue of the Federal Register, FEMA published a table titled “Rockingham County, New Hampshire (All Jurisdictions)”. This table contained inaccurate information as to the communities affected by the proposed flood hazard determinations.

In this document, FEMA is publishing a table containing the accurate information. The information provided below should be used in lieu of that previously published.

(Catalog of Federal Domestic Assistance No. 97.022, “Flood Insurance.”)

Dated: January 16, 2015.
Roy E. Wright,
Deputy Associate Administrator for Mitigation, Department of Homeland Security, Federal Emergency Management Agency.

Community | Community map repository address
Rockingham County, New Hampshire (All Jurisdictions)
Maps Available for Inspection Online at: http://www.fema.gov/preliminaryfloodhazarddata
City of Portsmouth | City Hall, One Junkins Avenue, Portsmouth, NH 03801.
Seabrook Beach Village District.. | Town Office, 99 Lafayette Road, Seabrook, NH 03874.
Town of Exeter | Town Office, 10 Front Street, Exeter, NH 03833.
Town of Greenland | Town Office, 575 Portsmouth Avenue, Greenland, NH 03840.
Town of Hampton | Town Office, 100 Winnacunnet Road, Hampton, NH 03842.
Town of Hampton Falls | Town Hall, One Drinkwater Road, Hampton Falls, NH 03844.
Town of New Castle | Town Office, 49 Main Street, New Castle, NH 03854.
Town of Newfields | Town Hall, 65 Main Street, Newfields, NH 03856.
Town of Newington | Town Office, 205 Nimble Hill Road, Newington, NH 03801.
Town of Newmarket | Town Hall, 186 Main Street, Newmarket, NH 03857.
Town of North Hampton | Town Office, 233 Atlantic Avenue, North Hampton, NH 03862.
Town of Rye | Town Office, 10 Central Road, Rye, NH 03870.
Town of Seabrook | Town Office, 99 Lafayette Road, Seabrook, NH 03874.
Town of Stratham | Town Office, 10 Bunker Hill Avenue, Stratham, NH 03885.

[FR Doc. 2015-02485 Filed 2-6-15; 8:45 am]

BILLING CODE 9110-12-P